DEPARTMENT OF AGRICULTURE

Rural Utilities Service

Georgia Transmission Corporation; Notice of Availability of an Environmental Assessment

AGENCY: Rural Utilities Service, USDA.

ACTION: Notice of availability of an Environmental Assessment for public review.

SUMMARY: Notice is hereby given that the Rural Utilities Service (RUS) proposes to prepare an Environmental Assessment related to possible financial assistance to Georgia Transmission Corporation (GTC) for the construction of approximately 4.4 miles of 230 kilovolt transmission line, a 230/25 kilovolt transmission substation, and a 230 kilovolt switching station. The proposed 230-kilovolt transmission line and substation projects would be located in Gwinnett County, Georgia. GTC is requesting RUS provide financing for the proposed project.

A less than 0.1 acre portion of the project will be located in a wetland. Alternatives, including no action, were considered; however, no practicable alternatives were identified that would avoid having an impact on the wetland. Comments or suggestions for mitigating impacts to the wetland are welcome.

DATES: Written comments on this Notice must be received on or before November 21, 2005.

ADDRESSES: Written comments may be sent to: Stephanie Strength, Environmental Protection Specialist, USDA, Rural Development, Utilities Programs, Engineering and Environmental Staff, 1400 Independence Avenue, SW., Stop 1571, Washington, DC 20250-1571. Telephone: (202) 720-0468 or e-mail stephanie.strength@wdc.usda.gov.

FOR FURTHER INFORMATION CONTACT: Stephanie Strength, Environmental Protection Specialist, USDA, Rural Development, Utilities Programs, Engineering and Environmental Staff, 1400 Independence Avenue, SW., Stop 1571, Washington, DC 20250-1571. Telephone: (202) 720-0468 or e-mail stephanie.strength@wdc.usda.gov.

SUPPLEMENTARY INFORMATION: Georgia Transmission Corporation proposes to construct a 230 kilovolt transmission line between the Jim Moore Substation (located on Auburn Road (SR324), 3.2 miles north of Dacula, Georgia, and 14.3 miles northwest of Auburn, Georgia) to the Old Freeman Mill Road Switching Station (located 2 miles northeast of Dacula, Georgia and 0.2 miles south of State Highway 29 (Winder Highway) on Old Freemans Mill Road. The transmission line connects the Old Freeman Mill switching station in-line with the existing Lawrenceville-Winder Primary 230 kilovolt Transmission Line to the proposed Jim Moore Road 230/25 kilovolt transmission substation. Concrete or steel poles ranging in height from 85 to 115-feet would support the conductors and would require a right-of-way of 25 to 100 feet. The approximate length of the transmission line is 4.4 miles. It is anticipated that the transmission line and substations would be in service by the summer of 2006.

Alternatives considered by RUS and Georgia Transmission Corporation include: (a) No action, (b) alternative transmission improvements, and (c) alternative transmission line corridors. An environmental report, which describes the project further and discusses anticipated environmental impacts thereof has been prepared by Georgia Transmission Corporation.

The Rural Utilities Service (RUS) has accepted the ER as its environmental assessment (EA) of the project and is available for public review. The Report is available for public review at RUS at the address provided in this notice, or at the Georgia Transmission Corporation, 2100 East Exchange Place, Tucker, Georgia 30084.

Questions and comments should be sent to RUS at the address provided. RUS should receive comments on the EA in writing by November 21, 2005 to ensure that they are considered in the environmental impact determination.

Should RUS determine, based on the Environmental Assessment of the project, that the impacts of the construction and operation of the transmission projects would not have a significant environmental impact, it will prepare a Finding of No Significant Impact. Public notification of a Finding of No Significant Impact would be published in the Federal Register and in newspapers with a circulation in the project area.

Any final action by RUS related to the proposed project will be subject to, and contingent upon, compliance with all relevant Federal, State and local environmental laws and regulations and completion of the environmental review requirements as prescribed in the RUS Environmental Policies and Procedures (7 CFR part 1794).

Dated: October 17, 2005.
Glendon D. Deal,
Director, Engineering and Environmental Staff, USDA/Rural Development/Utilities Programs.

[FR Doc. 05-21083 Filed 10-20-05; 8:45 am]

BILLING CODE 3410-15-P